FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

Logicargo Corp., 1209 Uniroyal Drive, Laredo, TX 78045. Officers: Alejandro Zamudio, President (Qualifying Individual), Eduardo Betesh, vice President.

Patron Star Corporatio, 425 S. San Gabriel Boulevard, Suite #200, San Gabriel, CA 91776. Officer: An-Ning Dai, President (Qualifying Individual).

Non-Vessel-Operating Common Carrier and Ocean Freight Forwarder Transportation Intermediary Applicant

JCI Logistics LLC, 2940 Husking Peg Lane, Geneva, IL 60134. Officer: Paul Curry, President (Qualifying Individual).

Ocean Freight Forwarder—Ocean Transportation Intermediary Applicant

Tri-Ocean Logistics, Inc., 20B Dreyer Avenue, Staten Island, NY 10314. Officers: Victor Rao, President (Qualifying Individual), Wilma Rodriguez-Rao, Vice President.

Dated: January 27, 2006.
Bryant L. VanBrakle,
Secretary.

[FR Doc. E6-1363 Filed 1-31-06; 8:45 am]

BILLING CODE 6730-01-P